SMALL BUSINESS ADMINISTRATION

13 CFR Ch. I

Semiannual Regulatory Agenda

AGENCY: U.S. Small Business Administration (SBA).

ACTION: Semiannual regulatory agenda.

SUMMARY: This Regulatory Agenda is a semiannual summary of all current and projected rulemakings, existing regulations, and completed actions of the Small Business Administration (SBA). For this fall edition of the SBA's Regulatory Agenda, a Regulatory Plan that contains a list of the Agency's most important and significant regulatory actions and a Statement of Regulatory Priorities is also included.

This plan appears in both the online Unified Agenda and in part II of the Federal Register editions that includes the abbreviated Unified Agenda.

This agenda provides the public with information about SBA's regulatory activity. SBA invites the public to submit comments on any aspect of this Agenda. SBA expects that providing early information about pending regulatory activities would encourage more effective public participation in this process.

FOR FURTHER INFORMATION CONTACT:

General: Please direct general comments or inquiries to Imelda A. Kish, Law Librarian, U.S. Small Business Administration, 409 Third Street SW., Washington, DC 20416, (202) 205-6849, imelda.kish@sba.gov.

Specific: Please direct specific comments and inquiries on individual regulatory activities identified in this agenda to the individual listed in the summary of the regulation as the point of contact for that regulation.

SUPPLEMENTARY INFORMATION: SBA provides this notice under the requirements of the Regulatory Flexibility Act, 5 U.S.C. 601 to 612 and Executive Order 12866, “Regulatory Planning and Review,” which require each agency to publish a semiannual agenda of regulations. The Regulatory Agenda is a summary of all current and projected rulemakings during the coming one-year period, as well as actions completed since the publication of the last Regulatory Agenda for the agency.

Beginning with the fall 2007 edition, the Internet became the basic means for disseminating the Unified Agenda. The complete Unified Agenda will be available online at www.reginfo.gov in a format that greatly enhances a user's ability to obtain information about the rules in the agency's Agenda.

The Regulatory Flexibility Act (RFA) also requires federal agencies to publish their regulatory flexibility agendas in the Federal Register. A regulatory flexibility agenda contains only those rules listed in the semi-annual agenda that are likely to have a significant economic impact on a substantial number of small entities, and those rules identified for periodic review in keeping with the requirements of section 610 of the RFA. This regulatory flexibility agenda may be combined with any other agenda. Therefore, SBA's Fall 2014 Regulatory Agenda includes, as a subset, those regulatory actions that are in the SBA's regulatory flexibility agenda. Printing of these entries is limited to fields that contain information required by the RFA requirements. Additional information on these entries is available in the Unified Agenda published on the Internet.

Dated: September 26, 2014.
Maria Contreras-Sweet,
Administrator.

Small Business Administration—Prerule Stage
Sequence No. | Title | Regulation Identifier No.
400 | Small Business Development Centers (SBDC) Program Revisions | 3245-AE05
401 | Women's Business Center Program | 3245-AG02
402 | Small Business Innovation Research (SBIR) and Small Business Technology Transfer (STTR) Policy Directives; Data Rights; Phase III Award Preference; Other Clarifying Amendments | 3245-AG64
403 | Small Business Timber Set-Aside Program | 3245-AG69

Small Business Administration—Proposed Rule Stage
Sequence No. | Title | Regulation Identifier No.
404 | SBA Express Loan Program; Export Express Program | 3245-AF85
405 | Implementation of Small Business Disaster Response and Loan Improvement Act: Expedited Disaster Assistance Program | 3245-AF88
406 | Implementation of Small Business Disaster Response and Loan Improvement Act: Private Disaster Loan Program | 3245-AF99
407 | Small Business Mentor-Protege Programs | 3245-AG24
408 | Small Business HUBZone Program | 3245-AG38
409 | Agent Revocation and Suspension Procedures | 3245-AG40
410 | Small Business Size Standards for Manufacturing | 3245-AG50
411 | Small Business Size Standards for Other Industries With Employee-Based Size Standards Not Part of Manufacturing Wholesale Trade or Retail Trade | 3245-AG51
412 | Small Business Government Contracting and National Defense Authorization Act of 2013 Amendments | 3245-AG58

Small Business Administration—Final Rule Stage
Sequence No. | Title | Regulation Identifier No.
413 | Small Business Size Standards: Employee Based Size Standards for Wholesale Trade and Retail Trade | 3245-AG49
414 | Advisory Small Business Size Decisions | 3245-AG59
415 | Small Business Size Standards; Inflation Adjustment to Monetary-Based Size Standards | 3245-AG60

Small Business Administration—Long-Term Actions
Sequence No. | Title | Regulation Identifier No.
416 | Small Business Size Standards; Alternative Size Standard for 7(a), 504, and Disaster Loan Programs | 3245-AG16

Small Business Administration—Completed Actions
Sequence No. | Title | Regulation Identifier No.
417 | Lender Oversight Program | 3245-AE14
418 | 504 and 7(a) Loan Programs Updates | 3245-AG04

SMALL BUSINESS ADMINISTRATION (SBA)

400. Small Business Development Centers (SBDC) Program Revisions

Legal Authority: 15 U.S.C. 634(b)(6); 15 U.S.C. 648

Abstract: Updates the SBDC program regulations by amending the (1) procedures for approving applications for new Host SBDCs; (2) approval procedures for travel outside the continental U.S. and U.S. territories; (3) procedures and requirements regarding findings and disputes resulting from financial exams, programmatic reviews, accreditation reviews, and other SBA oversight activities; (4) requirements for new or renewal applications for SBDC grants, including the requirements for electronic submission through the approved electronic Government submission facility; and (5) provisions regarding the collection and use of the individual SBDC client data.

Timetable:

Action | Date | FR Cite
ANPRM | 11/00/14 |

Regulatory Flexibility Analysis Required: Yes.

Agency Contact: J. Chancy Lyford, Deputy Associate Administrator, Office of Small Development Centers, Small Business Administration, 409 Third Street SW., Washington, DC 20416, Phone: 202 205-7159, Fax: 202 481-2613, Email: chancy.lyford@sba.gov.

RIN: 3245-AE05

401. Women's Business Center Program

Legal Authority: 15 U.S.C. 631; 15 U.S.C. 656

Abstract: SBA's Office of Women's Business Ownership (OWBO) oversees a network of SBA-funded Women's Business Centers (WBCs) throughout the United States and its territories. WBCs provide management and technical assistance to small business concerns both nascent and established, with a focus on such businesses that are owned and controlled by women, or on women planning to start a business, especially women who are economically or socially disadvantaged. The training and counseling provided by the WBCs encompass a comprehensive array of topics, such as finance, management and marketing in various languages. This rule would propose to codify the requirements and procedures that govern the delivery, funding and evaluation of the management and technical assistance provided under the WBC Program. The rule would address, among other things, the eligibility criteria for selection as a WBC, use of Federal funds, standards for effectively carrying out program duties and responsibilities, and the requirements for reporting on financial and programmatic performance.

Timetable:

Action | Date | FR Cite
ANPRM | 11/00/14 |

Regulatory Flexibility Analysis Required: Yes.

Agency Contact: Bruce D. Purdy, Deputy Assistant Administrator, Office of Women's Business Ownership, Small Business Administration, Washington, DC 20416, Phone: 202 205-7532, Email: bruce.purdy@sba.gov.

RIN: 3245-AG02

402. • Small Business Innovation Research (SBIR) and Small Business Technology Transfer (STTR) Policy Directives; Data Rights; Phase III Award Preference; Other Clarifying Amendments

Legal Authority: 15 U.S.C. 638(p); Pub. L. 112-81, sec 5001, et seq.

Abstract: This Directive seeks comments from the public on two key areas of the Small Business Innovation Research (SBIR) and Small Business Technology Transfer (STTR) Policy Directives that the SBA is considering revising: SBIR/STTR data rights, and the Government's responsibilities with respect to SBIR/STTR Phase III awards. The SBA intends to update policy directive language on miscellaneous topics including the calculation of extramural R/R&D and to provide greater clarity and detail on these issues in the Policy Directive. SBA also intends to combine the directives for the two programs into a single document to simplify the reference and revision processes.

Timetable:

Action | Date | FR Cite
ANPRM | 11/07/14 | 79 FR 66342
ANPRM Comment Period End | 01/06/15 |

Regulatory Flexibility Analysis Required: Yes.

Agency Contact: Edsel M. Brown Jr., Assistant Director, Office of Innovation, Small Business Administration, 409 Third Street SW., Washington, DC 20416, Phone: 202 205-6450, Email: edsel.brown@sba.gov.

RIN: 3245-AG64

403. • Small Business Timber Set-Aside Program

Legal Authority: 15 U.S.C. 631; 15 U.S.C. 644(a)

Abstract: Under the Small Business Timber Set-Aside Program, timber sales must be set aside for small business when small business participation falls below a certain amount. This threshold is based on a computation of small business participation in a prior five-year period. Through this ANPRM SBA will seek public comment and information on whether the saw timber volume purchase on stewardship timber/service contracts should be included, which may expand the small business set-aside calculation. SBA will also seek public comment on whether the appraisal on set-aside sales should be made to the nearest small business mill to reflect the actual cost to an eligible bidder. In addition, SBA is requesting data on the timber industry to help evaluate the current program and economic impact of potential changes.

Timetable:

Action | Date | FR Cite
ANPRM | 01/00/15 |

Regulatory Flexibility Analysis Required: Yes.

Agency Contact: Brenda J. Fernandez, Procurement Analyst, Small Business Administration, 409 Third Street SW., Washington, DC 20416, Phone: 202 205-7337, Email: brenda.fernandez@sba.gov.

RIN: 3245-AG69

SMALL BUSINESS ADMINISTRATION (SBA)

Proposed Rule Stage

404. SBA Express Loan Program; Export Express Program

Legal Authority: 15 U.S.C. 636(a)(31) and (35)

Abstract: SBA plans to issue regulations for the SBA Express loan program codified in section 7(a)(31) of the Small Business Act. The SBA Express loan program reduces the number of Government mandated forms and procedures, streamlines the processing and reduces the cost of smaller, less complex SBA loans. Particular features of the SBA Express loan program include: (1) SBA Express loans carry a maximum SBA guaranty of 50 percent; (2) a response to an SBA Express loan application will be given within 36 hours; (3) lenders and borrowers can negotiate the interest rate, which may not exceed SBA maximums; and (4) qualified lenders may be granted authorization to make eligibility determinations. SBA also plans to issue regulations for the Export Express Program codified at 7(a)(35) of the Small Business Act. The Export Express Program, made permanent by the Small Business Jobs Act, makes guaranteed financing available for export development activities.

Timetable:

Action | Date | FR Cite
NPRM | 04/00/15 |

Regulatory Flexibility Analysis Required: Yes.

Agency Contact: Linda Rusche, Director, Office of Financial Assistance, Small Business Administration, 409 Third Street SW., Washington, DC 20416, Phone: 202 205-6396, Email: linda.rusche@sba.gov.

RIN: 3245-AF85

405. Implementation of Small Business Disaster Response and Loan Improvement Act: Expedited Disaster Assistance Program

Legal Authority: 15 U.S.C. 636j

Abstract: This proposed rule would establish and implement an expedited disaster assistance business loan program under which the SBA will guarantee short-term loans made by private lenders to eligible small businesses located in a catastrophic disaster area. The maximum loan amount is $150,000, and SBA will guarantee timely payment of principal and interest to the lender. The maximum loan term will be 180 days, and the interest rate will be limited to 300 basis points over the Federal funds rate.

Timetable:

Action | Date | FR Cite
NPRM | 01/00/15 |

Regulatory Flexibility Analysis Required: Yes.

Agency Contact: Linda Rusche, Director, Office of Financial Assistance, Small Business Administration, 409 Third Street SW., Washington, DC 20416, Phone: 202 205-6396, Email: linda.rusche@sba.gov.

RIN: 3245-AF88

406. Implementation of Small Business Disaster Response and Loan Improvement Act: Private Disaster Loan Program

Legal Authority: 15 U.S.C. 636(c)

Abstract: This proposed rule would establish and implement a private disaster loan program under which SBA will guarantee loans made by qualified lenders to eligible small businesses and homeowners located in a catastrophic disaster area. Private disaster loans made under this programs will have the same terms and conditions as SBA's direct disaster loans. In addition, SBA will guarantee timely payment of principal and interest to the lender. SBA may guarantee up to 85 percent of any loan under this program, and the maximum loan amount is $2 million.

Timetable:

Action | Date | FR Cite
NPRM | 01/00/15 |

Regulatory Flexibility Analysis Required: Yes.

Agency Contact: Linda Rusche, Director, Office of Financial Assistance, Small Business Administration, 409 Third Street SW., Washington, DC 20416, Phone: 202 205-6396, Email: linda.rusche@sba.gov.

RIN: 3245-AF99

407. Small Business Mentor-Protege Programs

Legal Authority: Pub. L. 111-240; sec 1347;15 U.S.C. 657r

Abstract: SBA currently has a mentor-protege program for the 8(a) Business Development Program that is intended to enhance the capabilities of the protege and to improve its ability to successfully compete for Federal contracts. The Small Business Jobs Act authorized SBA to use this model to establish similar mentor-protege programs for the Service Disabled Veteran-Owned, HUBZone, and Women-Owned Small Federal Contract Business Programs and the National Defense Authorization Act for Fiscal Year 2013 authorized this for all small businesses. This authority is consistent with recommendations issued by an interagency task force created by President Obama on Federal Contracting Opportunities for Small Businesses. As is the case with the current mentor-protege program, the various forms of assistance that a mentor will be expected to provide to a protege include technical and/or management assistance; financial assistance in the form of equity investment and/or loans; subcontracts; and/or assistance in performing prime contracts with the Government in the form of joint venture arrangements.

Timetable:

Action | Date | FR Cite
NPRM | 11/00/14 |

Regulatory Flexibility Analysis Required: Yes.

Agency Contact: Brenda J. Fernandez, Procurement Analyst, Small Business Administration, 409 Third Street SW., Washington, DC 20416, Phone: 202 205-7337, Email: brenda.fernandez@sba.gov.

RIN: 3245-AG24

408. Small Business HUBZone Program

Legal Authority: 15 U.S.C. 657a

Abstract: SBA has been reviewing its processes and procedures for implementing the HUBZone program and has determined that several of the regulations governing the program should be amended in order to resolve certain issues that have arisen. As a result, the proposed rule would constitute a comprehensive revision of part 126 of SBA's regulations to clarify current HUBZone Program regulations, and implement various new procedures. The amendments will make it easier for participants to comply with the program requirements and enable them to maximize the benefits afforded by participation. In developing this proposed rule, SBA will focus on the principles of Executive Order 13563 to determine whether portions of regulations should be modified, streamlined, expanded or repealed to make the HUBZone program more effective and/or less burdensome on small business concerns. At the same time, SBA will maintain a framework that helps identify and reduce waste, fraud, and abuse in the program.

Timetable:

Action | Date | FR Cite
NPRM | 03/00/15 |

Regulatory Flexibility Analysis Required: Yes.

Agency Contact: Mariana Pardo, Director, Office of HUBZone, Small Business Administration, 409 3rd Street SW., Washington, DC 20416, Phone: 202 205-2985, Email: mariana.pardo@sba.gov.

RIN: 3245-AG38

409. Agent Revocation and Suspension Procedures

Legal Authority: 15 U.S.C. 634; 15 U.S.C. 642

Abstract: These changes to 13 CFRs 103, 134, and 2 CFR 2700 lay out a procedural process for SBA's revocation of the privilege of agents to conduct business with the Agency. Included in this process are procedures for proposed revocation, the opportunity to object to the proposed revocation, the revocation decision, as well as requests for reconsideration. These procedures also provide for suspension of the privilege to conduct business with the Agency pending a revocation action. In addition, these changes remove Office of Hearings and Appeals review of suspension, revocation, and debarment actions by SBA.

Timetable:

Action | Date | FR Cite
NPRM | 10/16/14 | 79 FR 62060
NPRM Comment Period End | 12/15/14 |
Final Rule | 08/00/15 |

Regulatory Flexibility Analysis Required: Yes.

Agency Contact: Debra Mayer, Chief, Supervision and Enforcement, Office of Credit Risk Management, Small Business Administration, 409 Third Street SW., Washington, DC 20416, Phone: 202 205-7577, Email: debra.mayer@sba.gov.

RIN: 3245-AG40

410. Small Business Size Standards for Manufacturing

Legal Authority: 15 U.S.C. 632(a)

Abstract: On September 10, 2014, the U.S. Small Business Administration (SBA), published a proposed rule to increase employee based size standards for 209 industries in North American Industry Classification System (NAICS) Section 31-33, Manufacturing. SBA also proposed to increase the refining capacity component of the Petroleum Refiners (NAICS 324110) size standard to 200,000 barrels per calendar day total capacity for businesses that are primarily engaged in petroleum refining. The proposed rule also eliminated the requirement that 90 percent of a refiner's output being delivered should be refined by the bidder. As a part of its comprehensive size standards review required by the Small Business Jobs Act of 2010, SBA evaluated all 364 industries in NAICS Sector 31-33 to determine whether their size standards should be retained or revised. This is one of the rules that will examine industries grouped by an NAICS Sector. SBA has applied its “Size Standards Methodology,” which is available on its Web site at http://www.sba.gov/size, to this proposed rule.

Timetable:

Action | Date | FR Cite
NPRM | 09/10/14 | 79 FR 54146
NPRM Comment Period End | 11/10/14 |
Final Rule | 05/00/15 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG50

411. Small Business Size Standards for Other Industries With Employee-Based Size Standards Not Part of Manufacturing Wholesale Trade or Retail Trade

Legal Authority: 15 U.S.C. 632(a)

Abstract: On September 10, 2014, the U.S. Small Business Administration (SBA) published a proposed rule to increase to increase the employee-based size standards for 30 industries and three exceptions and decrease them for three industries that are not a part of NAICS Sector 31-33 (Manufacturing) Sector 42 (Wholesale Trade) and Sector 44-45 (Retail Trade). Additionally, SBA proposed to remove the Information Technology Value Added Resellers exception under NAICS 541519 (Other Computer Related Services) together with its 150-employee size standard. Similarly, SBA also proposed to eliminate the Offshore Marine Air Transportation Services exception under NAICS 481211 and 481212 and Offshore Marine Services exception under NAICS Subsector 483 and their $30.5 million receipts based size standard. As part of its comprehensive size standards review required by the Small Business Jobs Act of 2010 SBA evaluated 57 industries and five exceptions with employee based size standards that are not in NAICS Sectors 31-33 42 or 4445. This is one of the rules that will examine industries grouped by an NAICS Sector. SBA has applied its Size Standards Methodology, which is available on its Web site at http://www.sba.gov/size to this proposed rule.

Please Note: The title for this rule has been changed since it was first announced in the Regulatory Agenda on January 8, 2013 to add the words or Retail Trade at the end of the previous title. This change makes it clear that industries in the retail trade with employee based size standards are also not addressed in the rule.

Timetable:

Action | Date | FR Cite
NPRM | 09/10/14 | 79 FR 53646
NPRM Rule Correction | 10/24/14 | 79 FR 62576
NPRM Comment Period End | 11/10/14 |
Final Rule | 05/00/15 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG51

412. Small Business Government Contracting and National Defense Authorization Act of 2013 Amendments

Legal Authority: 15 U.S.C. 631; Pub. L. 112-239

Abstract: The rule would propose various small business related amendments authorized by various sections of the NDAA of 2013 with respect to the limitations on subcontracting and non-manufacturer rules that apply to set aside contracts. SBA would propose amendments concerning joint ventures, the applicability of the non-manufacturer rule to the purchase of software; recertification of size; affiliation in the context of Small Innovation Research program; the definition of a construction contract for purposes of an adverse impact analysis in connection with 8(a) Business Development program contract; Procurement Center Representative responsibilities; small business subcontracting assistance and reporting; Certificates of Competency; and penalties for violations of the subcontracting limitations and protection for small businesses that acted in good faith in connection with such limitations.

Timetable:

Action | Date | FR Cite
NPRM | 12/00/14 |

Regulatory Flexibility Analysis Required: Yes.

Agency Contact: Brenda J. Fernandez, Procurement Analyst, Small Business Administration, 409 Third Street SW., Washington, DC 20416, Phone: 202 205-7337, Email: brenda.fernandez@sba.gov.

RIN: 3245-AG58

SMALL BUSINESS ADMINISTRATION (SBA)

Final Rule Stage

413. Small Business Size Standards: Employee Based Size Standards for Wholesale Trade and Retail Trade

Legal Authority: 15 U.S.C. 632(a)

Abstract: On May 19, 2014, the U.S. Small Business Administration (SBA) published a proposed rule to increase employee based size standards in 46 industries in North American Industry Classifcation System (NAICS) Sector 42, Wholesale Trade, and in one industry in Sector 44-45, Retail Trade. As a part of its comprehensive size standards review required by the Small Business Jobs Act of 2012, SBA reviewed all 71 industries in Sector 42 and two industries with employee based size standards in Sector 44-45 to determine whether their size standards should be retained or revised. The proposed revisions, if adopted, will primarily affect eligibility for SBA's financial assistance programs. This is one of the rules that will examine industries grouped by an NAICS Sector. SBA has applied its “Size Standards Methodology,” which is available on its Web site at http://www.sba.gov/size, to this purposed rule. SBA expects to publish the final rule in the near future.

NOTE: The title for this rule has been changed since the rule was first reported in the Regulatory Agenda on January 8, 2013, from “Small Business Size Standards for Wholesale Trade” to “Small Business Size Standards: Employee Based Size Standards for Wholesale Trade and Retail Trade.” The title was changed to make it clear that the rule also addresses industries with employee based size standards in Retail Trade.

Timetable:

Action | Date | FR Cite
NPRM | 05/19/14 | 79 FR 28631
NPRM Comment Period End | 07/18/14 |
Final Rule | 12/00/14 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG49

414. Advisory Small Business Size Decisions

Legal Authority: 15 U.S.C. 645(d)(3)

Abstract: The purpose of the statute is to establish procedures for Small Business Development Centers (SBDCs) (SBA grantees) or Procurement Technical Assistance Centers (PTACs) (DOD grantees) to issue advisory size decisions. This rule would provide guidance to SBDCs and PTACs regarding the minimum requirements that small business status advisory opinions must meet in order to be deemed adequate by SBA. The rule would also require the SBDC or PTAC issuing the advisory opinion to remit a copy of the opinion to SBA for review, and establish a 10 day deadline by which SBA must either accept or reject the advisory opinion. If SBA rejects the advisory opinion, the Agency will notify the entity which issued the opinion and the firm to which it applies, after which time the firm is no longer entitled to rely upon the opinion or invoke the safe harbor provisions of the statute. If SBA accepts the advisory opinion, then the firm may rely on the SBDC or PTAC advisory opinion and is entitled to invoke the safe harbor provision as a defense to punishments imposed under 15 U.S.C. 645, Offenses and Penalties, which prescribes fines and imprisonment for false statements. The rule would also make clear that SBA has the authority to initiate a formal size determination of a firm that is the subject of a small business status advisory opinion where the Agency concludes that opinion contains information that calls into question the firm's small business status.

Timetable:

Action | Date | FR Cite
NPRM | 06/25/14 | 79 FR 35963
NPRM Comment Period End | 08/25/14 |
Final Rule | 01/00/15 |

Regulatory Flexibility Analysis Required: Yes.

Agency Contact: Brenda J. Fernandez, Procurement Analyst, Small Business Administration, 409 Third Street SW., Washington, DC 20416, Phone: 202 205-7337, Email: brenda.fernandez@sba.gov.

RIN: 3245-AG59

415. Small Business Size Standards; Inflation Adjustment to Monetary-Based Size Standards

Legal Authority: 15 U.S.C. 632(a)

Abstract: On June 12, 2014, SBA issued an interim final rule with request for comments to adjust its monetary small business size standards (i.e., receipts, net income, net worth, and financial assets), for the effects of inflation that have occurred since the last inflation adjustment, which was effective August 19, 2008. The interim final rule aimed to restore small business eligibility to businesses that have lost their small business status due to inflation. The Small Business Jobs Act of 2010 (Jobs Act) requires SBA to review and adjust (as necessary) all size standards within five years of its enactment. SBA's Small Business Size Regulations at 13 CFR 121.102(c) require the same quinquennial (or less) review and adjustment. The rule did not increase the $750,000 size standard for agricultural enterprises, which is established by the Small Business Act (§ 3(a)(1)). The alternate size standard used in the 7(a) and 504 business loan programs is unaffected by this adjustment.

Timetable:

Action | Date | FR Cite
Interim Final Rule | 06/12/14 | 79 FR 33647
Interim Final Rule Effective | 07/14/14 |
Interim Final Rule Comment Period End | 08/11/14 |
Final Rule | 12/00/14 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG60

SMALL BUSINESS ADMINISTRATION (SBA)

Long-Term Actions

416. Small Business Size Standards; Alternative Size Standard for 7(a), 504, and Disaster Loan Programs

Legal Authority: Pub. L. 111-240, sec 1116

Abstract: SBA will amend its size eligibility criteria for Business Loans, community development company (CDC) loans under title V of the Small Business Investment Act (504) and economic injury disaster loans (EIDL). For the SBA 7(a) Business Loan Program and the 504 program, the amendments will provide an alternative size standard for loan applicants that do not meet the small business size standards for their industries. The Small Business Jobs Act of 2010 (Jobs Act) established alternative size standards that apply to both of these programs until SBA's Administrator establishes other alternative size standards. For the disaster loan program, the amendments will provide an alternative size standard for loan applicants that do not meet the Small Business Size Standard for their industries. These alternative size standards do not affect other Federal Government programs, including Federal procurement.

Timetable:

Action | Date | FR Cite
NPRM | 11/00/15 |

Regulatory Flexibility Analysis Required: Yes.

Agency Contact: Khem Raj Sharma, Phone: 202 205-7189, Fax: 202 205-6390, Email: khem.sharma@sba.gov.

RIN: 3245-AG16

SMALL BUSINESS ADMINISTRATION (SBA)

Completed Actions

417. Lender Oversight Program

Legal Authority: 15 U.S.C. 634(b)(6), (b)(7), (b)(14), (h) and note; 687(f), 697e(c)(8), and 650

Abstract: This rule implements the Small Business Administration's (SBA) statutory authority under the Small Business Act to regulate Small Business Lending Companies (SBLCs) and non-federally regulated lenders (NFRLs). It also conforms SBA rules for the section 7(a) Business Loan Program and the Certified Development Company (CDC) Program.

In particular, this rule: (1) Defines SBLCs and NFRLs; (2) clarifies SBA's authority to regulate SBLCs and NFRLs; (3) authorizes SBA to set certain minimum capital standards for SBLCs, to issue cease and desist orders, and revoke or suspend lending authority of SBLCs and NFRLs; (4) establishes the Bureau of Premier Certified Lender Program Oversight in the Office of Credit Risk Management; (5) transfers existing SBA enforcement authority over CDCs from the Office of Financial Assistance to the appropriate official in the Office of Capital Access; and (6) defines SBA's oversight and enforcement authorities relative to all SBA lenders participating in the 7(a) and CDC programs and intermediaries in the Microloan program.

Completed:

Reason | Date | FR Cite
Interim Final Rule | 12/11/08 | 73 FR 75498
Interim Final Rule Comment Period End | 03/11/09 |
Interim Final Rule Effective | 01/12/09 |

Regulatory Flexibility Analysis Required: Yes.

Agency Contact: Brent Ciurlino, Phone: 202 205-6538, Email: brent.ciurlino@sba.gov.

RIN: 3245-AE14

418. 504 and 7(a) Loan Programs Updates

Legal Authority: 15 U.S.C. 695 et seq., 15 U.S.C. 636(a)

Abstract: The 7(a) Loan Program and 504 Loan Program are SBA's two primary business loan programs authorized under the Small Business Act and the Small Business Investment Act of 1958, respectively.

The 7(a) Loan Program's main purpose is to help eligible small businesses obtain credit when they cannot obtain “credit elsewhere.” This program is also an important engine for job creation. On the other hand, the core mission of the 504 Loan Program is to provide long-term fixed asset financing to small businesses to facilitate the creation of jobs and local economic development. The purpose of this proposed rulemaking is to reinvigorate these programs as vital tools for creating and preserving American jobs. SBA proposes to strip away regulatory restrictions that detract from the 504 Loan Program's core job creation mission as well as the 7(a) Loan Program's positive job creation impact on the American economy. The proposed changes would enhance job creation through increasing eligibility for loans under SBA's business loan programs and by modifying certain program participant requirements applicable to these two programs. The major changes that SBA is proposing include changes relating to the personal resources test, the 9-month rule for the 504 Loan Program, and CDC operational and organizational requirements.

Completed:

Reason | Date | FR Cite
Final Rule | 03/21/14 | 79 FR 15641
Final Rule Effective | 04/21/14 |

Regulatory Flexibility Analysis Required: Yes.

Agency Contact: John P. Kelley, Phone: 202 205-0067, Fax: 202 292-3844, Email: patrick.kelley@sba.gov.

RIN: 3245-AG04

[FR Doc. 2014-28983 Filed 12-19-14; 8:45 am]

BILLING CODE 8025-01-P